ENVIRONMENTAL PROTECTION AGENCY

[EPA-HQ-OPP-2007-0037; FRL-8382-1]

Trichoderma Species and Linalool Final Registration Review Decision; Notice of Availability

AGENCY: Environmental Protection Agency (EPA).

ACTION: Notice.

SUMMARY: This notice announces the availability of EPA's final registration review decisions for the pesticides Trichoderma species (case 6050) and Linalool (case 6058). Registration review is EPA's periodic review of pesticide registrations to ensure that each pesticide continues to satisfy the statutory standard for registration, that is, that the pesticide can perform its intended function without unreasonable adverse effects on human health or the environment. Through this program, EPA is ensuring that each pesticide's registration is based on current scientific and other knowledge, including its effects on human health and the environment.

ADDRESSES: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: For information about the biopesticides included in this document, contact the specific Regulatory contact, as identified in the Table in Unit II.A. for the pesticide of interest. The mailing address and additional contact information is Biopesticides and Pollution Prevention Division, (7511P); Office of Pesticide Programs, Environmental Protection Agency, 1200 Pennsylvania Ave., NW., Washington, DC 20460-0001; telephone number: (703) 308-8712; fax number: (703) 308-7026.

For general questions on the registration review program, contact, Kevin Costello Special Review and Reregistration Division (7508P), Office of Pesticide Programs, Environmental Protection Agency, 1200 Pennsylvania Ave., NW., Washington, DC 20460-0001; telephone number: (703) 305-5026; fax number: (703) 308-8090; e-mail address: costello.kevin@epa.gov.

SUPPLEMENTARY INFORMATION:

I. General Information

A. Does this Action Apply to Me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

II. Background

A. What Action is the Agency Taking?

This notice announces the final registration decisions for Linalool and Trichlorderma species cases as shown in the following Table.

Table 1—Registration Review Dockets - Final Decisions
Registration Review Case Name and Number | Pesticide Docket ID Number | Regulatory Contact name, Phone Number, E-mail Address
Linalool; Case 6058 | EPA-HQ-OPP-2006-0356 | Stephen Morrill (703) 308-8319 morrill.stephen@epa.gov
Trichoderma species; Case 6050 | EPA-HQ-OPP-2006-0245 | Shanaz Bacchus (703) 308-8097 bacchus.shanaz@epa.gov

The dockets for registration review of these pesticide cases include the final registration review decision documents as well as other relevant documents related to the registration review of the subject cases. Proposed registration review decisions were posted to the docket and public comments were requested. During the respective 60 day comment periods, no public comments were received.

Background on the registration review program is provided at: http://www.epa.gov/oppsrrd1/registration_review/. Quick links to earlier documents related to the registration review of this pesticide are provided at: http://www.epa.gov/oppsrrd1/registration_review/reg_review_status.htm

B. What is the Agency's Authority for Taking this Action?

FIFRA Section 3(g) and 40 CFR 155.58(c) provide authority for this action. A registration review decision is the Agency's determination whether a pesticide meets, or does not meet the standard for registration in FIFRA. Proposed registration review decisions were posted to the docket for the above cases and public comments were requested. During the respective 60 day comment periods, no public comments were received for the Trichoderma species and Linalool cases. The final decisions that are subject to this notice continue to be supported by the rationales included in the proposed registration review decisions for each case. The documents in the subject registration review dockets describe the Agency's rationale for issuing these final decisions for Trichoderma species and Linalool cases. No risk mitigation measures are required or specified in the final decisions for these registration review cases and no labeling changes are required as a result of these final decisions.

List of Subjects

Environmental protection, Registration review, Pesticides and pests.

Dated: September 11, 2008.
Janet L. Andersen,
Director, Biopesticides and Pollution Prevention Division, Office of Pesticide Programs.

[FR Doc. E8-21710 Filed 9-16-08; 8:45 am]

BILLING CODE 6560-50-S